DEPARTMENT OF DEFENSE

Office of the Secretary

[Docket ID DoD-2013-OS-0033]

Privacy Act of 1974; System of Records

AGENCY: Office of the Secretary of Defense, DoD.

ACTION: Notice to add a New System of Records.

SUMMARY: The Office of the Secretary of Defense proposes to add a new system of records in its inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on February 21, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: February 28, 2013.
Aaron Siegel,
Alternate OSD Federal Register Liaison Officer, Department of Defense.

DWHS C01

System name:

Enterprise Support Portal (ESP).

System location:

Washington Headquarters Service, Enterprise Information Technology Services Directorate, 1155 Defense Pentagon, Room 3B957, Washington, DC 20301-1155.

Categories of individuals covered by the system:

Military personnel, DoD civilian employees and contractor employees assigned to the Office of the Secretary of Defense (OSD), the Pentagon Force Protection Agency (PFPA), or Washington Headquarters Services (WHS).

Categories of records in the system:

Full name, DoD ID number, work contact information (phone number, DoD email address, and physical location), alternate worksite address, alternate worksite telephone number, and alternate worksite email address. Copies of network acceptable use agreements, existence/non-existence of work related reportable items (e.g., issuance of parking passes, passports, Blackberries, laptops).

Authority for maintenance of the system:

10 U.S.C. 113, Secretary of Defense; DoD Directive 5105.53, Director of Administration and Management; and DoD Directive 5110.4, Washington Headquarters Services.

Purpose(s):

To assist OSD Components in organizational management tasks, manpower-related tasks, and general administrative tasks related to employees by retrieving information from the authoritative sources and storing administrative information within the Enterprise Support Portal. To process network/system account requests, IT service/helpdesk requests, and facilities requests.

Routine uses of records maintained in the system, including categories of users and the purposes of such uses:

In addition to those disclosures generally permitted under 5 U.S.C. 552a(b) of the Privacy Act of 1974, as amended, the records contain herein may specifically be disclosed outside the DoD as a routine use pursuant to 5 U.S.C. 552a(b)(3) as follows:

The DoD Blanket Routine Uses set forth at the beginning of the Office of the Secretary of Defense (OSD) systems of records notices may apply to this system.

Policies and practices for storing, retrieving, accessing, retaining, and disposing of records in the system:

Storage:

Electronic storage media.

Retrievability:

Name and/or DoD ID number.

Safeguards:

Records are maintained in a controlled area accessible only to authorized personnel. Entry is restricted to personnel with a valid requirement and authorization to enter. Physical access is restricted by the use of locks, guards and administrative procedures. Access to personally identifiable information is role based and restricted to those who require the records in the performance of their official duties. Access is further restricted by the use of system permissions and Common Access Cards (CAC). All individuals granted access to this system must receive annual Information Assurance and Privacy Act training.

Retention and disposal:

Records are destroyed three years after departure of the individual.

System manager and address:

Manager, Enterprise System Portal, Washington Headquarters Services, 1235 S. Clark Street, Suite 920, Arlington, VA 22202-4366.

Notification procedure:

Individuals seeking to determine whether information about themselves is contained in this system of records should address written inquiries to the Manager, Enterprise System Portal, Washington Headquarters Services, 1235 S. Clark Street, Suite 920, Arlington, VA 22202-4366.

Requests should contain the first and last name of the individual, the DoD ID number, and be signed.

Record access procedures:

Individuals seeking access to records about themselves contained in this system of records should address written inquires to the Office of the Secretary of Defense/Joint Staff Freedom of Information Act Requester Service Center, Washington Headquarters Services/Executive Services Directorate, 4800 Mark Center Drive, Alexandria, VA 22350-3100.

Requests should be signed and include the first and last name, the DoD ID number, and the name and number of this system of records notice.

Contesting record procedures:

The OSD rules for accessing records, contesting contents, and appealing initial agency determinations are contained in OSD Administrative Instruction 81; 32 Code of Federal Regulations part 311; or may be obtained from the system manager.

Record source categories:

Defense Civilian Personnel Data System, Defense Enrollment Eligibility Reporting System, Military Personnel, and Global Force Management-Data Initiative (GFM-DI).

Exemptions claimed for the system:

None.

[FR Doc. 2013-05047 Filed 3-4-13; 8:45 am]

BILLING CODE 5001-06-P